DEPARTMENT OF ENERGY

Office of Energy Efficiency and Renewable Energy

Energy Conservation Program for Consumer Products: Representative Average Unit Costs of Energy

AGENCY: Office of Energy Efficiency and Renewable Energy, Department of Energy.

ACTION: Notice.

SUMMARY: In this notice, the Department of Energy (DOE or Department) is forecasting the representative average unit costs of five residential energy sources for the year 2006 pursuant to the Energy Policy and Conservation Act. The five sources are electricity, natural gas, No. 2 heating oil, propane, and kerosene.

DATES: Effective Date: The representative average unit costs of energy contained in this notice will become effective March 29, 2006 and will remain in effect until further notice.

FOR FURTHER INFORMATION CONTACT:

Bryan Berringer, U.S. Department of Energy, Office of Energy Efficiency and Renewable Energy, Forrestal Building, Mail Station EE-2J, 1000 Independence Avenue, SW., Washington, DC 20585-0121. (202) 586-0371, bryan.berringer@ee.doe.gov.

Francine Pinto, Esq., U.S. Department of Energy, Office of General Counsel, Forrestal Building, Mail Station GC-72, 1000 Independence Avenue, SW., Washington, DC 20585-0103. (202) 586-7432, Francine.pinto@hq.doe.gov.

Thomas DePriest, Esq., U.S. Department of Energy, Office of General Counsel, Forrestal Building, Mail Station GC-72, 1000 Independence Avenue, SW., Washington, DC 20585-0103. (202) 586-2946, thomas.depriest@hq.doe.gov.

SUPPLEMENTARY INFORMATION: Section 323 of the Energy Policy and Conservation Act (Act) (42 U.S.C. 6291-6309) requires that DOE prescribe test procedures for the determination of the estimated annual operating costs or other measures of energy consumption for certain consumer products specified in the Act. (42 U.S.C. 6293) These test procedures are found in Title 10 of the Code of Federal Regulations (CFR) part 430, subpart B.

Section 323(b) of the Act requires that the estimated annual operating costs of a covered product be calculated from measurements of energy use in a representative average use cycle or period of use and from representative average unit costs of the energy needed to operate such product during such cycle. (42 U.S.C. 6293(b)) The section further requires that DOE provide information to manufacturers regarding the representative average unit costs of energy. (42 U.S.C. 6293(b)(4)) This cost information should be used by manufacturers to meet their obligations under section 323(c) of the Act. Most notably, these costs are used to comply with Federal Trade Commission (FTC) requirements for labeling. Manufacturers are required to use the revised DOE representative average unit costs when the FTC publishes new ranges of comparability for specific covered products, 16 CFR part 305. Interested parties can also find information covering the FTC labeling requirements at http://www.ftc.gov/appliances.

The Department last published representative average unit costs of residential energy for use in the Energy Conservation Program for Consumer Products Other Than Automobiles on March 11, 2005. (70 FR 12209) Effective March 29, 2006, the cost figures published on March 11, 2005, will be superseded by the cost figures set forth in this notice.

The Department's Energy Information Administration (EIA) has developed the 2006 representative average unit after-tax costs found in this notice. The representative average unit after-tax costs for electricity, natural gas, No. 2 heating oil, and propane are based on simulations used to produce the January, 2006, EIA Short-Term Energy Outlook, and reflect the mid-price scenario. The representative average unit after-tax costs for kerosene are derived from their prices relative to that of heating oil, based on 2000-2004 averages for these two fuels. The source for these price data is the December 2005, Monthly Energy Review DOE/EIA-0035(2005/12). The Short-Term Energy Outlook and the Monthly Energy Review are available at the National Energy Information Center, Forrestal Building, Room 1F-048, 1000 Independence Avenue, SW., Washington, DC 20585, (202) 586-8800. These publications can also be found on the EIA Web site at http://www.eia.doe.gov.

The 2006 representative average unit costs under section 323(b)(4) of the Act are set forth in Table 1, and will become effective March 29, 2006. They will remain in effect until further notice.

Issued in Washington, DC, on February 17, 2006.
Douglas L. Faulkner,
Acting Assistant Secretary, Energy Efficiency and Renewable Energy.

Table 1.—Representative Average Unit Costs of Energy for Five Residential Energy Sources
[2006]
Type of energy | Per million Btu ¹ | In commonly used terms | As required by test procedure (in dollars)
Electricity | $28.75 | 9.81¢/kWh ²,³ | .0981/kWh.
Natural Gas | 14.15 | $1.415/therm ⁴ or $14.57/MCF ⁵,⁶ | .00001415/Btu
No. 2 Heating Oil | 16.37 | $2.27/gallon ⁷ | .00001637/Btu.
Propane | 21.35 | $1.95/gallon ⁸ | .00002135/Btu.
Kerosene | 20.30 | $2.74/gallon ⁹ | .00002030/Btu.
¹ Btu stands for British thermal units.
² kWh stands for kilowatt hour.
³ 1 kWh = 3,412 Btu.
⁴ 1 therm = 100,000 Btu. Natural gas prices include taxes.
⁵ MCF stands for 1,000 cubic feet.
⁶ For the purposes of this table, one cubic foot of natural gas has an energy equivalence of 1,031 Btu.
⁷ For the purposes of this table, one gallon of No. 2 heating oil has an energy equivalence of 138,690 Btu.
⁸ For the purposes of this table, one gallon of liquid propane has an energy equivalence of 91,333 Btu.
⁹ For the purposes of this table, one gallon of kerosene has an energy equivalence of 135,000 Btu.

[FR Doc. E6-2741 Filed 2-24-06; 8:45 am]

BILLING CODE 6450-01-P[?USGPO Galley End:?]